DEPARTMENT OF TRANSPORTATION

Federal Aviation Administration

Solicitation of Nominations for Appointment to the Safety Oversight and Certification Advisory Committee (SOCAC)

AGENCY: Federal Aviation Administration (FAA), U.S. Department of Transportation (DOT).

ACTION: Solicitation of nominations for appointment to the Safety Oversight and Certification Advisory Committee (SOCAC).

SUMMARY: The FAA is publishing this notice to solicit nominations for membership on SOCAC.

DATES: Nominations must be received no later than 5:00 p.m. Eastern Time on March 9, 2022.

ADDRESSES: Nominations must be submitted electronically (by email) to 9-awa-arm-socac@faa.gov. The subject line should state “SOCAC Nomination.”

FOR FURTHER INFORMATION CONTACT: Natalie Mitchell-Funderburk, Federal Aviation Administration, 800 Independence Avenue SW, Washington, DC 20591, telephone (202) 267-0254; email 9-awa-arm-socac@faa.gov.

SUPPLEMENTARY INFORMATION:

Background

This committee's charter was established in accordance with the Federal Advisory Committee Act (Pub. L. 92-463) and section 202, “Safety Oversight and Certification Advisory Committee,” of the FAA Reauthorization Act of 2018 (Pub. L. 115-254). The committee provides information and recommendations to the Secretary of Transportation through the FAA Administrator and fosters industry collaboration in an open and transparent manner.

Description of Duties

SOCAC's duties include recommending consensus national goals, strategic objectives, and priorities for the most efficient, streamlined, and cost-effective certification and safety oversight processes to maintain the safety of the aviation system and while allowing the FAA to meet future needs and ensure that aviation stakeholders remain competitive in the global marketplace. Other duties include providing policy guidance recommendations for the FAA's certification and safety oversight efforts; providing appropriate legislative, regulatory, and guidance recommendations for the air transportation system and the aviation safety regulatory environment; reviewing the FAA and the regulated aviation industry on their progress towards streamlining certification reform, conducting flight standards reform, and carrying out regulation consistency efforts. Additional duties are described in the SOCAC Charter.

Membership

SOCAC is comprised of members appointed by the Secretary of Transportation upon recommendation by the FAA Administrator. All SOCAC members serve at the pleasure of the Secretary of Transportation. As outlined in sec. 202 of Public Law 115-254, SOCAC is composed of the Administrator (or the Administrator's designee) and at least 11 individuals, each of whom represents at least one of the following interests: Transport aircraft and engine manufacturers; general aviation aircraft and engine manufacturers; avionics and equipment manufacturers; aviation labor organizations, including collective bargaining representatives of FAA aviation safety inspectors and aviation safety engineers; general aviation operators; air carriers; business aviation operators; unmanned aircraft systems manufacturers and operators; aviation safety management experts; operators of aviation maintenance, repair, and overhaul facilities; and airport owners and operators. The designated organizations are intended to provide balanced representation in terms of knowledge, expertise, and points of view of interested parties relative to the SOCAC's tasks.

Membership to the SOCAC requires that an individual has the appropriate expertise in certification and risked-based safety oversight processes, operations, policy, technology, labor relations, training, and finance. Members serve without compensation, and the employing organization bears all costs related to its members' participation.

The Secretary shall appoint non-voting members representing FAA safety oversight program offices. Non-voting members may take part in deliberations of the advisory committee and provide input with respect to any final reports or recommendations of the Advisory Committee. Non-voting members may not represent any stakeholder interest other than that of an FAA safety oversight program office. Non-voting members are appointed for a two-year term.

Nomination Process

The Secretary is seeking individual nominations for membership to SOCAC. As outlined in Public Law 115-254, the nominee must be an executive officer of the organization who has decision-making authority within the member's organization, represent the interest of the organization, and enter into commitments on behalf of such organization. Any interested person may nominate one or more qualified individuals for membership to the SOCAC. Self-nominations are also accepted. Nominations must include, in full, the following materials to be considered for SOCAC membership.

a. A biography, including professional and academic credentials.

b. A résumé or curriculum vitae, which must include relevant job experience, qualifications, as well as contact information (email, telephone, and mailing address).

c. A one-page statement describing how the candidate will benefit the SOCAC, taking into account the candidate's unique perspective that will advance the conversation. This statement must also identify a primary and secondary interest to which the candidate's expertise best aligns.

Failure to submit the required information may disqualify a candidate from the review process.

Finally, candidates should state their previous experience on a Federal advisory committee or an aviation rulemaking committee or both, their level of knowledge in their above stakeholder groups, and the size of the constituency they represent or are able to reach.

Current SOCAC members who wish to be reappointed to the committee must respond to this solicitation notice.

Evaluations will be based on the materials submitted.

The Secretary will make every effort to appoint members to serve on SOCAC from among those candidates that have the technical expertise required to meet specific statutory categories and Departmental needs and in a manner to ensure an appropriate balance of membership. The selection of committee members will be consistent with achieving the greatest impact, scope, and credibility among diverse stakeholders. The diversity in such membership includes, but is not limited to, race, gender, disability, sexual orientation, and gender identity.

The Secretary reserves the discretion to appoint members to serve on SOCAC who were not nominated in response to this notice if necessary to meet specific statutory categories and Departmental needs in a manner to ensure an appropriate balance of membership.

Issued in Washington, DC, on February 11, 2022.
Brandon Roberts,
Executive Director, Office of Rulemaking.

[FR Doc. 2022-03354 Filed 2-15-22; 8:45 am]

BILLING CODE 4910-13-P